DEPARTMENT OF COMMERCE

Foreign-Trade Zones Board

[B-45-2016]

Foreign-Trade Zone (FTZ) 189—Kent, Ottawa and Muskegon Counties, Michigan; Authorization of Production Activity; Southern Lithoplate, Inc. (Aluminum Printing Plates); Grand Rapids, Michigan

On July 6, 2016, the KOM Foreign Trade Zone Authority, grantee of FTZ 189, submitted a notification of proposed production activity to the FTZ Board on behalf of Southern Lithoplate, Inc., within Site 10, in Grand Rapids, Michigan.

The notification was processed in accordance with the regulations of the FTZ Board (15 CFR part 400), including notice in the Federal Register inviting public comment (81 FR 45123, July 12, 2016). The FTZ Board has determined that no further review of the activity is warranted at this time. The production activity described in the notification is authorized, subject to the FTZ Act and the Board's regulations, including Section 400.14 and further subject to a restriction requiring that inputs classified under HTSUS Subheadings 3204.17, 3208.20 and 3208.90 be admitted to the subzone in privileged foreign status (19 CFR 146.41) or domestic status (19 CFR 146.43).

Dated: November 3, 2016.
Andrew McGilvray,
Executive Secretary.

[FR Doc. 2016-26983 Filed 11-8-16; 8:45 am]

BILLING CODE 3510-DS-P